DEPARTMENT OF TRANSPORTATION

Federal Aviation Administration

14 CFR Part 39

[Docket No. 2003-NM-51-AD; Amendment 39-13568; AD 2004-07-24]

RIN 2120-AA64

Airworthiness Directives; Dassault Model Mystere-Falcon 50, Mystere-Falcon 900, and Falcon 900 EX Series Airplanes

AGENCY: Federal Aviation Administration, DOT.

ACTION: Final rule.

SUMMARY: This amendment adopts a new airworthiness directive (AD), applicable to certain Dassault Model Mystere-Falcon 50, Mystere-Falcon 900, and Falcon 900 EX series airplanes, that requires installing a shield plate over the tank structure above the Stormscope antenna and replacing the Stormscope antenna plug connector with a new connector. This action is necessary to prevent puncture of the fuel tank in the event of a belly landing, which could result in a post-landing fire if fuel leaking from the tank makes contact with the sparks from the airplane sliding on the ground. This action is intended to address the identified unsafe condition.

DATES: Effective May 11, 2004.

The incorporation by reference of certain publications listed in the regulations is approved by the Director of the Federal Register as of May 11, 2004.

ADDRESSES: The service information referenced in this AD may be obtained from Dassault Falcon Jet, P.O. Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dassault Model Mystere-Falcon 50, Mystere-Falcon 900, and Falcon 900 EX series airplanes was published in the Federal Register on February 6, 2004 (69 FR 5773). That action proposed to require installing a shield plate over the tank structure above the Stormscope antenna and replacing the Stormscope antenna plug connector with a new connector.

Comments

Interested persons have been afforded an opportunity to participate in the making of this amendment. No comments were submitted in response to the proposal or the FAA's determination of the cost to the public.

Conclusion

The FAA has determined that air safety and the public interest require the adoption of the rule as proposed.

Cost Impact

The FAA estimates that 394 Model Mystere-Falcon 50, Mystere-Falcon 900, and Falcon 900 EX series airplanes of U.S. registry will be affected by this AD, that it will take approximately 8 work hours per airplane to accomplish the required actions, and that the average labor rate is $65 per work hour. Required parts are provided free of charge by the manufacturer. Based on these figures, the cost impact of the AD on U.S. operators is estimated to be $204,880, or $520 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-24 Dassault Aviation: Amendment 39-13568. Docket 2003-NM-51-AD.

Applicability: Model Mystere-Falcon 50 series airplanes with a Stormscope antenna installed between frames 22 and 23 by Dassault modification M2208 or by a DFJ Little Rock modification, except on airplanes on which Dassault modification M2838 has been performed; and Model Mystere-Falcon 900 and Falcon 900EX series airplanes with a Stormscope antenna installed between frames 23 and 24 by Dassault modification M2993 or by a DFJ Little Rock modification, except airplanes on which Dassault modification M3498 has been performed; certificated in any category.

Compliance: Required as indicated, unless accomplished previously.

To prevent puncture of the fuel tank in the event of a belly landing, which could result in a post-landing fire if fuel leaking from the tank makes contact with the sparks from the airplane sliding on the ground, accomplish the following:

Install and Replace

(a) Within 25 months after the effective date of this AD, install a shield plate over the tank structure above the Stormscope antenna, and replace the Stormscope antenna plug connector with a new connector, in accordance with the Accomplishment Instructions of the applicable service bulletin listed in Table 1 of this AD.

Table 1.—Applicable Service Bulletins
For Model— | Dassault Service Bulletin—
Mystere-Falcon 50 series airplanes | F50-404, dated November 6, 2002.
Mystere-Falcon 900 series airplanes | F900-293, dated November 13, 2002.
Falcon 900EX series airplanes | F900EX-158, dated November 13, 2002.

Reporting Difference

(b) Although the service bulletins referenced in this AD specify to submit certain information to the manufacturer, this AD does not include such a requirement.

Alternative Methods of Compliance

(c) In accordance with 14 CFR 39.19, the Manager, International Branch, ANM-116, FAA, Transport Airplane Directorate, is authorized to approve alternative methods of compliance for this AD.

Incorporation by Reference

(d) The actions shall be done in accordance with the applicable service bulletin listed in Table 2 of this AD.

Table 2.—Applicable Service Bulletins Incorporated by Reference
Dassault Service Bulletin— | Revision level— | Date—
F50-404 | Original | November 6, 2002.
F900-293 | Original | November 13, 2002.
F900EX-158 | Original | November 13, 2002.

This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 1: The subject of this AD is addressed in French airworthiness directive 2002-569(B), dated November 13, 2002.

Effective Date

(e) This amendment becomes effective on May 11, 2004.

Issued in Renton, Washington, on March 26, 2004.
Kalene C. Yanamura,
Acting Manager, Transport Airplane Directorate, Aircraft Certification Service.

[FR Doc. 04-7473 Filed 4-5-04; 8:45 am]

BILLING CODE 4910-13-P